DEPARTMENT OF ENERGY

Federal Energy Regulatory Commission

[Project No. P-12589-001]

Public Service Company of Colorado; Notice of Application Tendered for Filing With the Commission and Establishing Procedural Schedule for Licensing and Deadline for Submission of Final Amendments

July 8, 2008.

Take notice that the following hydroelectric application has been filed with the Commission and is available for public inspection.

a. Type of Application: New Major License.

b. Project No.: P-12589-001.

c. Date Filed: June 25, 2008.

d. Applicant: Public Service Company of Colorado.

e. Name of Project: Tacoma Hydroelectric Project.

f. Location: The existing project is located on Cascade Creek, Little Cascade Creek and Elbert Creek in La Plata and San Juan Counties, Colorado. The Tacoma Project occupies 221 acres of the San Juan National Forest.

g. Filed Pursuant to: Federal Power Act 16 U.S.C. 791(a)-825(r).

h. Applicant Contact: Randy Rhodes, Public Service Company of Colorado, 4653 Table Mountain Drive, Golden Colorado 80403; telephone (720) 497-2123.

i. FERC Contact: David Turner (202) 502-6091 or via e-mail at david.turner@ferc.gov.

j. This application is not ready for environmental analysis at this time.

k. Project Description: The existing project consists of the following: (1) A 30-foot-long, 10-foot-high concrete diversion dam on Cascade Creek; (2) a 4,200-foot-long, 10-foot-diameter, semi-circular, elevated wooden flume; (3) a 1,400-foot-long, 60-inch-diameter steel inverted siphon; (4) a 14,500-foot-long, 64-inch-diameter steel pipeline; (5) the open channel of Little Cascade Creek; (6) a 0.5-mile-long, 5-foot-deep lake (Columbine Lake) formed by a small, partially breached timber dam on Little Cascade Creek; (7) the open channel of Little Cascade Creek downstream of Columbine Lake; (8) the 4-acre Aspaas Lake; (9) a 274-foot-long, 27-foot-high, earth-filled Aspaas dam; (10) a 14-foot-wide, rock-cut open diversion channel that diverts flow from Aspaas Lake to Electra Lake; (11) the 800-acre Electra Lake; (12) a 140-foot-long, 20-foot-high, rock-filled, timber crib dam (Stagecoach dam) serving as the spillway for Electra Lake; (13) a 1,270-foot-long, 62-foot-high, rock-filled dam (Terminal dam), with an impermeable asphalt membrane on the upstream face and an asphalt-paved crest; (14) a 429-foot-long, 54-inch-diameter steel pipe intake under the Terminal dam that leads project flows from Electra Lake to a valve vault; (15) the valve vault; (16) a 9,590-foot-long, 66-inch-diameter welded steel penstock, with a 12-foot-diameter, 116-foot-high surge tank; (17) a bifurcated penstock structure that diverts flow to a 2,050-foot-long, 30-inch-diameter welded steel penstock that enters the powerhouse and a 2,050-foot-long, 54-inch diameter welded steel penstock that branches to a 46-inch diameter pipe immediately prior to entering the power house; (18) a 108-foot-long, 64-foot-wide, steel frame, brick powerhouse containing three generating units with a total installed capacity of 8 megawatts (MW); (19) a 44 kV substation adjacent to the powerhouse; and (20) appurtenant facilities. The project is operated both as a base-load plant and a peaking plant depending on the time of the year. The applicant proposes the following changes to project facilities: (1) project boundary modifications to reflect lands needed for project operations; (2) rehabilitation and addition of the 6-foot-high Canyon Creek diversion to supply potable water, emergency cooling water, and fire protection; (3) the addition of 4 MW turbine-generator (Unit 4); and (4) several recreation and environmental measures.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

m. You may also register online at http://www.ferc.gov/esubscribenow.htm to be notified via email of new filings and issuances related to this or other pending projects. For assistance, contact FERC Online Support.

n. Procedural Schedule: The application will be processed according to the following Hydro Licensing Schedule. Revisions to the schedule may be made as appropriate. For example, issuance of the Ready for Environmental Analysis Notice is based on the assumption that there will be no additional information.

Milestone | Date
Application Deficiency Determination Letter and Issuance of Additional Information Requests (AIRs) | July 2008.
Notice of Acceptance/Notice of Ready for Environmental Analysis | August 2008.
Filing of Interventions, Recommendations, Terms and Conditions, and Fishway Prescriptions | October 2008.
Reply Comments Due | December 2008.
Issuance of Draft EA | January 2009.
Comments on Draft EA Due | February 2009.
Filing of Modified Terms and Conditions | April 2009.
Issuance of Final EA | July 2009.

o. Final amendments to the application must be filed with the Commission no later than 30 days from the issuance date of the notice of ready for environmental analysis.

Kimberly D. Bose,
Secretary.

[FR Doc. E8-16049 Filed 7-14-08; 8:45 am]

BILLING CODE 6717-01-P